INTERNATIONAL TRADE COMMISSION

[Investigation No. 337-TA-902]

Certain Windshield Wipers and Components Thereof Termination of Investigation Pursuant to a Settlement Agreement

AGENCY: U.S. International Trade Commission.

ACTION: Notice.

SUMMARY: Notice is hereby given that the U.S. International Trade Commission has determined not to review an initial determination (“ID”) (Order No. 24) of the presiding administrative law judge (“ALJ”) granting a joint motion to terminate the above-referenced investigation pursuant to a settlement agreement.

FOR FURTHER INFORMATION CONTACT: Jia Chen, Office of the General Counsel, U.S. International Trade Commission, 500 E Street SW., Washington, DC 20436, telephone (202) 708-4737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 26, 2013, based on a complaint filed by Trico Products Corporation (“Trico”) of Rochester Hills, Michigan, alleging violations of section 337 of the Tariff Act of 1930, as amended, 19 U.S.C. 1337, by reason of infringement of certain claims of U.S. Patent Nos. 6,836,925 and 6,799,348. 78 FR 70575 (Nov. 26, 2013). The notice of investigation named the following respondents: Federal Mogul Corporation of Southfield, Michigan; and Federal Mogul S.A. of Aubange, Belgium (collectively, “Federal Mogul”).

On July 29, 2014, Trico and Federal Mogul filed a joint motion to terminate the investigation in its entirety pursuant to a settlement agreement (“Settlement Agreement”). Public and confidential versions of the Settlement Agreement were attached to the motion. The motion also stated that there are no other agreements, written or oral, express or implied, between the parties concerning the subject matter of this investigation. On August 5, 2014, the Commission investigative attorney filed a response supporting the joint motion.

On August 6, 2014, the ALJ issued the subject ID granting the motion, finding that no extraordinary circumstances exist that would prevent the requested termination from this investigation and that the motion fully complies with Commission Rule 210.21. The ALJ further found that termination of the investigation is in the public interest pursuant to Commission Rule 210.50(b)(2).

No petitions for review were filed.

The Commission has determined not to review the ID.

The authority for the Commission's determination is contained in Section 337 of the Tariff Act of 1930, as amended (19 U.S.C. 1337), and in part 210 of the Commission's Rules of Practice and Procedure (19 CFR part 210).

By order of the Commission.
Issued: September 4, 2014.
Lisa R. Barton,
Secretary to the Commission.

[FR Doc. 2014-21484 Filed 9-9-14; 8:45 am]

BILLING CODE 7020-02-P